DEPARTMENT OF DEFENSE

48 CFR Part 252

[DFARS Case 2000-D014]

Defense Federal Acquisition Regulation Supplement; Ocean Transportation by U.S.-Flag Vessels; Correction

AGENCY: Department of Defense (DoD).

ACTION: Correction to final rule.

SUMMARY: DoD is issuing a correction to the final rule published at 67 FR 38020-38022 on May 31, 2002, pertaining to requirements for use of U.S.-flag vessels in the transportation of supplies by sea.

EFFECTIVE DATE: May 31, 2002.

FOR FURTHER INFORMATION CONTACT: Ms. Amy Williams, Defense Acquisition Regulations Council, OUSD(AT&L)DP(DAR), IMD 3C132, 3062 Defense Pentagon, Washington, DC 20301-3062. Telephone (703) 602-0328; facsimile (703) 602-0350.

Correction

In the issue of Friday, May 31, 2002, on page 38021, in the third column, amendatory instruction 5.b. is corrected by removing “252.247-2023” and adding in its place “252.247-7023”.

Michele P. Peterson,
Executive Editor, Defense Acquisition Regulations Council.

[FR Doc. 02-17521 Filed 7-11-02; 8:45 am]

BILLING CODE 5001-08-P